DEPARTMENT OF DEFENSE

GENERAL SERVICES ADMINISTRATION

NATIONAL AERONAUTICS AND SPACE ADMINISTRATION

[OMB Control No. 9000-0153; Docket 2017-0053; Sequence 17]

Information Collection; OMB Circular A-119

AGENCY: Department of Defense (DOD), General Services Administration (GSA), and National Aeronautics and Space Administration (NASA).

ACTION: Correction.

SUMMARY: This document contains a correction to the information collection notice that was published in the Federal Register at 82 FR 51256, on November 3, 2017.

FOR FURTHER INFORMATION CONTACT: Mr. Michael O. Jackson, Procurement Analyst, Acquisition Policy Division, GSA, 202-208-4949, or email michaelo.jackson@gsa.gov.

SUPPLEMENTARY INFORMATION:

Correction

In the information collection document appearing at 82 FR 51256, on November 3, 2017, on page 51256, second column, paragraph 1, lines 1 through 7 are corrected to replace the reference to an outdated version of Office of Management and Budget (OMB) Circular A-119. The 1998 version was superseded in 2016.

The current version may be found on Standards.gov: https://www.nist.gov/sites/default/files/revised_circular_a-119_as_of_01-22-2016.pdf.

Dated: November 21, 2017.
Lorin S. Curit,
Director, Federal Acquisition Policy Division, Office of Government-wide Acquisition Policy, Office of Acquisition Policy, Office of Government-wide Policy.

[FR Doc. 2017-25553 Filed 11-24-17; 8:45 am]

BILLING CODE 6820-EP-P